DEPARTMENT OF THE INTERIOR

Bureau of Indian Affairs

[190A2100DD/AAKC001030/A0A51010.999900]

Proclaiming Certain Lands as Reservation for the Shakopee Mdewakanton Sioux Community of Minnesota

AGENCY: Bureau of Indian Affairs, Interior.

ACTION: Notice.

SUMMARY: This notice informs the public that the Assistant Secretary—Indian Affairs proclaimed approximately 93.34 acres, more or less, an addition to the reservation of the Shakopee Mdewakanton Sioux Community of Minnesota on December 21, 2018.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 5110) for the lands described below. The land was proclaimed to be part of the Shakopee Mdewakanton Sioux Community of Minnesota Reservation in Scott County, Minnesota.

Shakopee Mdewakanton Sioux Community of Minnesota Reservation, Fifth Principal Meridian, Scott County, Minnesota, Legal Descriptions Containing 93.34 Acres, More or Less

Canhdaka Parcel, 411-T-1022

YMCA Parcel 1: The South Half of the Northwest Quarter, Section 23, Township 115 North, Range 22 West, of the Fifth Principal Meridian, Scott County, Minnesota.

AND

The South 200 feet of the East 33 feet of the North Half of the Northwest Quarter of Section 23, Township 115 North, Range 22 West, of the Fifth Principal Meridian, Scott County, Minnesota.

YMCA Parcel 2: Outlot C, Titus 1st Addition, according to the recorded plat thereof, and situate in Scott County, Minnesota.

Mazario Parcel: That part of the North Half of the Northwest Quarter of Section 23, Township 115 North, Range 22 West of the 5th P.M., Scott County, Minnesota described as follows:

Beginning at the Southwest corner of said North Half of the Northwest Quarter; thence on an assumed bearing of North 01 degrees 00 minutes 36 seconds East along the West line of said North Half of the Northwest Quarter a distance of 660.20 feet; thence North 89 degrees 47 minutes 07 seconds East a distance of 658.93 feet; thence South 01 degrees 00 minutes 36 seconds West parallel with the West line of said North Half of the Northwest Quarter a distance of 662.38 feet more or less to the South line of said North Half of the Northwest Quarter; thence westerly along said South line a distance of 658.89 feet more or less to the point of beginning.

Except that part of the North Half of the Northwest Quarter of Section 23, Township 115 North, Range 22 West of the 5th P.M., Scott County, Minnesota, which is denoted and shown as Parcel 3 and Parcel 3A on Scott County Right of Way Plat No. 59, according to the recorded plat thereof, on file in the Office of the County Recorder, Scott County, Minnesota.

Subject to an easement for drainage and utility purposes over, under and across that part of the North Half of the Northwest Quarter of Section 23, Township 115 North, Range 22 West of the 5th P.M., Scott County, Minnesota, which is denoted as Drainage and Utility Easement Parcel 3 and shown by the symbol (“D.U.E. 3”) on Scott County Right of Way Plat No. 59, according to the recorded plat thereof, on file in the Office of the County Recorder, Scott County, Minnesota.

The above described lands contain a total of 93.34 acres, more or less, which are subject to all valid rights, reservations, rights-of-way, and easements of record.

This proclamation does not affect title to the lands described above, nor does it affect any valid existing easements for public roads, highways, public utilities, railroads and pipelines, or any other valid easements or rights-of-way or reservations of record.

Dated: December 21, 2018.
Tara Sweeney,
Assistant Secretary—Indian Affairs.

[FR Doc. 2019-02188 Filed 2-12-19; 8:45 am]

BILLING CODE 4337-15-P